DEPARTMENT OF AGRICULTURE

Commodity Credit Corporation

7 CFR Part 1439

RIN 0560-AH26

Livestock Assistance Program; American Indian Livestock Feed Program; Correction

AGENCY: Commodity Credit Corporation, USDA.

ACTION: Correcting amendments.

SUMMARY: This document corrects the final regulations published on March 31, 2005, and May 25, 2005, that provided the regulations for the 2003-2004 Livestock Assistance Program (LAP), and American Indian Livestock Feed Program (AILFP). This correction clarifies that all eligible cattle must be intended for food use.

EFFECTIVE DATE: March 3, 2006.

FOR FURTHER INFORMATION CONTACT: Virgil Ireland, Livestock Program Manager, Production, Emergencies, and Compliance Division (PECD), Farm Service Agency (FSA), United States Department of Agriculture, STOP 0517, 1400 Independence Avenue, SW., Washington, DC 20250-0517; telephone (202) 720-5103; e-mail: Virgil.Ireland@wdc.usda.gov. Persons with disabilities who require alternative means for communication (Braille, large print, audio tape, etc.) should contact the USDA Target Center at (202) 720-2600 (voice and TDD).

SUPPLEMENTARY INFORMATION:

Background

This rule corrects regulations published in the Federal Register on March 31, 2005 (70 FR 16394), and May 25, 2005 (70 FR 29920), that provided the regulations at 7 CFR part 1439 for, respectively, the 2003-2004 Livestock Assistance Program, and the American Indian Livestock Feed Program. Those rules, in §§ 1439.102 and 1439.903, defined “Eligible livestock” for AIFLP, and “Livestock” for LAP as follows:

Eligible livestock means beef and dairy cattle; buffalo and beefalo maintained on the same basis as beef cattle; equine animals used for food or used directly in the production of food; sheep; goats; swine; elk; and reindeer.

By stating that equine animals must be “used for food or used directly in the production of food,” the definition can be misconstrued as implying that the other livestock in the definition do not have to be used for food or directly in the production of food, which was not intended. When the final rules were published they were administered such that all other livestock in the definition in addition to equine animals, also must be used for food or directly in the production of food. This is the only interpretation that has been in use since these regulations were published in the Federal Register. This document corrects the subject definitions to state that more explicitly, so that the definition conforms with the Commodity Credit Corporation's long-standing interpretation.

List of Subjects in 7 CFR Part 1439

Agricultural commodities, Disaster assistance, Indian tribes, Livestock, Livestock feed.

Accordingly, 7 CFR part 1439 is amended as set forth below:

PART 1439—EMERGENCY LIVESTOCK ASSISTANCE

1. The authority citation for part 1439 continues to read as follows:

Authority: 7 U.S.C. 1427a; 15 U.S.C. 714 et seq.; Sec 1103 Pub. L. 105-277, 112 Stat. 2681-42-44; Pub. L. 106-31, 113 Stat. 57; Pub. L. 106-78, 113 Stat. 1135; Pub. L. 106-113, 113 Stat. 1501; Sec. 257 Pub. L. 106-224, 114. Stat. 358; Sec's. 802, 806, & 813 Pub. L. 106-387, 114 Stat. 1549; Pub. L. 108-7, 117 Stat. 11; Sec 101 of Division B, Pub. L. 108-324, 118 Stat. 1220; Sec. 785 of Division A, Pub. L. 108-447, 118 Stat. 2809.

Subpart B—2003-2004 Livestock Assistance Program

2. In § 1439.102, in alphabetical order remove the definition of “Livestock” and add “Eligible livestock” to read as follows:

§ 1439.102 Definitions.

* * * * *

Eligible livestock means only those animals produced specifically for food for human consumption, or used directly for the production of food for human consumption, or for the production of fiber, as determined by the Deputy Administrator, and includes beef and dairy cattle, buffalo, and beefalo, maintained on the same basis as beef cattle, equine animals, sheep, goats, swine, elk, and reindeer. Animals maintained for recreational purposes, hunting, or for show, are not eligible under any circumstances.

Subpart I—American Indian Livestock Feed Program

3. In § 1439.903, revised the definition of “Eligible livestock” to read as follows:

§ 1439.903 Definitions.

* * * * *

Eligible livestock means only those animals produced specifically for food for human consumption, or used directly for the production of food for human consumption, or for the production of fiber, as determined by the Deputy Administrator, and includes beef and dairy cattle, buffalo, and beefalo, maintained on the same basis as beef cattle, equine animals, sheep, goats, swine, elk, and reindeer. Animals maintained for recreational purposes, hunting, or for show, are not eligible under any circumstances.

* * * * *

Signed at Washington, DC, on February 24, 2006.
Michall W. Yost,
Acting Executive Vice President, Commodity Credit Corporation.

[FR Doc. 06-1927 Filed 3-2-06; 8:45 am]

BILLING CODE 3410-05-P